SURFACE TRANSPORTATION BOARD

[Docket No. FD 36205]

Atlantic and Western Railway, Limited Partnership—Acquisition and Operation Exemption—CSX Transportation, Inc.

Atlantic and Western Railway, Limited Partnership (ATW), a Class III rail carrier, has filed a verified notice of exemption under 49 CFR 1150.41 to acquire and operate approximately 0.37 miles of rail line owned by CSX Transportation, Inc. (CSXT) between milepost S 198.55 and milepost S 198.92, in Sanford, N.C. (the Line).¹

¹ ATW states that it is also acquiring certain additional excepted tracks that are not subject to the Board's jurisdiction.

ATW states that it entered into a Purchase and Sale Agreement with CSXT dated January 2, 2018, to acquire the Line in order to align operations and ownership of tracks in this area where ATW and CSXT operations converge. ATW also states that the proposed acquisition and operation of the Line does not impose or include an interchange commitment.

ATW certifies that the proposed transaction will not result in ATW becoming a Class II or Class I rail carrier and that the projected annual revenue of ATW will not exceed $5 million.

The transaction may be consummated on or after August 2, 2018 (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than July 26, 2018 (at least seven days before the exemption becomes effective).

An original and 10 copies of all pleadings, referring to Docket No. 36205, must be filed with the Surface Transportation Board, 395 E Street SW, Washington, DC 20423-0001. In addition, one copy of each pleading must be served on Eric M. Hocky, Clark Hill PLC, One Commerce Square, 2005 Market Street, Suite 1000, Philadelphia, PA 19103.

According to ATW, this action is excluded from environmental review under 49 CFR 1105.6(c) and from historic reporting requirements under 49 CFR 1105.8(b).

Board decisions and notices are available on our website at WWW.STB.GOV.

Decided: July 13, 2018.
By the Board, Scott M. Zimmerman, Acting Director, Office of Proceedings.
Jeffrey Herzig,
Clearance Clerk.

[FR Doc. 2018-15361 Filed 7-18-18; 8:45 am]

BILLING CODE 4915-01-P